DEPARTMENT OF DEFENSE

Office of the Secretary

[Transmittal Nos. 13-25]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-25 with attached transmittal and policy justification.

Dated: June 13, 2013.
Aaron Siegel,
Alternate OSD Federal Register Liaison Officer, Department of Defense.

Transmittal No. 13-25

Notice of Proposed Issuance of Letter of Offer Pursuant to Section 36(b)(1) of the Arms Export Control Act, as amended

(i) Prospective purchaser: The Government of Kuwait

(ii) Total Estimated Value

Major Defense Equipment* | $ 0 million
Other | $200 million
TOTAL | $200 million

(iii) Description and Quantity or Quantities of Articles or Services Under Consideration for Purchase: continuation of logistics support, contractor maintenance, and technical services in support of the F/A-18 C/D aircraft to include avionics software upgrade, engine component improvement, ground support equipment, spare and repair parts, publications and technical documentation, engineering change proposals, U.S. Government and contractor technical and logistics support services and other related elements of logistical support.

(iv) Military Department: Navy (GGW)

(v) Prior Related Cases, if any: Multiple FMS cases dating back to 1997

(vi) Sales Commission, Fee, etc., Paid, Offered, or Agreed to be Paid: None

(vii) Sensitivity of Technology Contained in the Defense Article or Defense Services Proposed to be Sold: None

(viii) Date Report Delivered to Congress: 7 June 2013

* as defined in Section 47(6) of the Arms Export Control Act.

POLICY JUSTIFICATION

Government of Kuwait—Technical/Logistics Support for F/A-18 C/D Aircraft

The Government of Kuwait has requested a possible sale of continuation of logistics support, contractor maintenance, and technical services in support of the F/A-18 C/D aircraft to include avionics software upgrade, engine component improvement, ground support equipment, spare and repair parts, publications and technical documentation, engineering change proposals, U.S. Government and contractor technical and logistics support services and other related elements of logistical support. The estimated cost is $200 million.

The proposed sale will contribute to the foreign policy and national security of the United States by helping to improve the security of a friendly country which has been, and continues to be, an important force for political stability and economic progress in the Middle East.

The proposed sale of this support will not alter the basic military balance in the region.

The principal contractors will be General Dynamics of Fairfax, Virginia; The Boeing Company of St. Louis, Missouri; and Wyle Laboratories, Inc of Huntsville, Alabama. There are no known offset agreements proposed in connection with this potential sale.

Implementation of this proposed sale will require the assignment of ninety U.S. Government and contractor representatives for a period three years to establish and maintain operational capability.

There will be no adverse impact on U.S. defense readiness as a result of this proposed sale.

[FR Doc. 2013-14481 Filed 6-17-13; 8:45 am]

BILLING CODE 5001-06-P